DEPARTMENT OF ENERGY

Federal Energy Regulatory Commission

Combined Notice of Filings #1

Take notice that the Commission received the following electric corporate filings:

Docket Numbers: EC24-77-000.

Applicants: Pioneer Transmission, LLC, John Laing Aspire HoldCo Corp, Duke Energy Transmission Holding Company, LLC.

Description: Joint Application for Authorization Under Section 203 of the Federal Power Act of Pioneer Transmission, LLC, et al.

Filed Date: 5/6/24.

Accession Number: 20240506-5157.

Comment Date: 5 p.m. ET 5/28/24.

Take notice that the Commission received the following electric rate filings:

Docket Numbers: ER24-136-002.

Applicants: Sunlight Storage II, LLC.

Description: Notice of Change in Status of Sunlight Storage II, LLC.

Filed Date: 4/30/24.

Accession Number: 20240430-5648.

Comment Date: 5 p.m. ET 5/21/24.

Docket Numbers: ER24-1953-000.

Applicants: Midcontinent Independent System Operator, Inc.

Description: § 205(d) Rate Filing: 2024-05-07_SA 4283 Ameren IL-Moonshine Solar GIA (J1382) to be effective 4/24/2024.

Filed Date: 5/7/24.

Accession Number: 20240507-5041.

Comment Date: 5 p.m. ET 5/28/24.

Docket Numbers: ER24-1954-000.

Applicants: Midcontinent Independent System Operator, Inc., Ameren Illinois Company.

Description: § 205(d) Rate Filing: Midcontinent Independent System Operator, Inc. submits tariff filing per 35.13(a)(2)(iii: 2024-05-07_SA 4286 Ameren Illinois-Geranium Solar E&P (J1712) to be effective 5/8/2024.

Filed Date: 5/7/24.

Accession Number: 20240507-5052.

Comment Date: 5 p.m. ET 5/28/24.

Docket Numbers: ER24-1955-000.

Applicants: Wisconsin Public Service Corporation.

Description: § 205(d) Rate Filing: Updated FERC Form 1 References to be effective 7/7/2024.

Filed Date: 5/7/24.

Accession Number: 20240507-5053.

Comment Date: 5 p.m. ET 5/28/24.

Docket Numbers: ER24-1956-000.

Applicants: California Independent System Operator Corporation.

Description: § 205(d) Rate Filing: 2024-05-07 Planning Coordinator Agreement—2nd Amendment—Silicon Valley Power to be effective 5/8/2024.

Filed Date: 5/7/24.

Accession Number: 20240507-5082.

Comment Date: 5 p.m. ET 5/28/24.

Docket Numbers: ER24-1958-000.

Applicants: Union Electric Company, Huck Finn Solar, LLC.

Description: § 205(d) Rate Filing: Union Electric Company submits tariff filing per 35.13(a)(2)(iii: 2024-05-07 Filing of Test Power Agreement with Union Electric Company to be effective 7/7/2024.

Filed Date: 5/7/24.

Accession Number: 20240507-5109.

Comment Date: 5 p.m. ET 5/28/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 7, 2024.
Debbie-Anne A. Reese,
Acting Secretary.

[FR Doc. 2024-10348 Filed 5-10-24; 8:45 am]

BILLING CODE 6717-01-P